ENVIRONMENTAL PROTECTION AGENCY

40 CFR Part 300

[FRL-8221-7]

National Oil and Hazardous Substance Pollution Contingency Plan; National Priorities List

AGENCY: Environmental Protection Agency.

ACTION: Notice of Intent to Delete the Army Materials Technology Laboratory Superfund Site from the National Priorities List.

SUMMARY: The Environmental Protection Agency (EPA), Region 1 announces its intent to delete the Army Materials Technology Laboratory Superfund Site (Site) located in Watertown, Massachusetts, from the National Priorities List (NPL) and requests public comment on this proposed action. The NPL, promulgated pursuant to Section 105 of the Comprehensive Environmental Response, Compensation, and Liability Act (CERCLA) of 1980, as amended, is found at Appendix B of 40 CFR part 300 of the National Oil and Hazardous Substances Pollution Contingency Plan (NCP). The EPA and the Commonwealth of Massachusetts, through the Department of Environmental Protection, have determined that all appropriate response actions under CERCLA—other than operation and maintenance and five-year reviews—have been completed. However, this deletion does not preclude future actions under Superfund.

In the “Rules and Regulations” section of today's Federal Register, EPA is publishing a direct final notice of deletion of the Army Materials Technology Laboratory Superfund Site without prior notice of intent to delete because we view this as a non-controversial revision and anticipate no adverse comment(s). EPA has explained our reasons for this deletion in the preamble to the direct final deletion. If EPA receives no adverse comment(s) on this notice of intent to delete or the direct final notice of deletion, EPA will not take further action on this notice of intent to delete. If EPA receives adverse comment(s), EPA will withdraw the direct final notice of deletion and it will not take effect. EPA will address all public comments in a subsequent final deletion notice based on this notice of intent to delete as appropriate. EPA will not institute a second comment period on this notice of intent to delete. Any parties interested in commenting must do so at this time. For additional information, see the direct final notice of deletion located in the Rules section of this Federal Register.

DATES: Comments concerning this Site must be received by October 23, 2006.

ADDRESSES: Submit your comments, identified by Docket ID No. EPA-HQ-SFUND-1994-0009, by one of the following methods:

• www.regulations.gov: Follow the on-line instruction for submitting comments.

• E-mail: keckler.kymberlee@epa.gov.

• Fax: (617) 918-0385.

• Mail: Kymberlee Keckler, Remedial Project Manager, U.S. Environmental Protection Agency, Region 1, 1 Congress Street, Suite 1100 (HBT), Boston, Massachusetts 02114-2023.

• Hand delivery: 1 Congress Street, Suite 1100 (HBT), Boston, Massachusetts 02114-2023. Such deliveries are only accepted during normal hours of operation, and special arrangements should be made for deliveries of boxed information.

Instructions: Direct your comments to Docket ID No. EPA “HQ-SFUND-1994-0009. EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov or e-mail. The www.regulations.gov Web site is an “anonymous access” system, which means EPA will not know your identity or contact information unless you provide it in the body or your comment. If you send an e-mail comment directly to EPA without going through www.regulations.gov, your e-mail address will be automatically captured and included as part of the comment that is placed in the public docket and made available on the Internet. If you submit an electronic comment, EPA recommends that you include your name and other contact information in the body of your comment and with any disk or CD-ROM that you submit. If EPA cannot read your comment because of technical difficulties and cannot contact you for clarification, EPA may not be able to consider your comment. Electronic files should avoid the use of special characters, any form of encryption, and be free of any defects or viruses.

FOR FURTHER INFORMATION CONTACT: Kymberlee Keckler, Remedial Project Manager, U.S. EPA, 1 Congress Street, Suite 1100 (HBT), Boston, Massachusetts 02114-2023, (617) 918-1385 or toll-free at 1-800-252-3402 extension 81385.

SUPPLEMENTARY INFORMATION: For additional information, see the Direct Final Notice of Deletion located in the Rules section of this Federal Register.

INFORMATION REPOSITORY: All documents in the docket are listed in www.regulations.gov index. Although listed in the index, some information is not publicly available, e.g., CBI or other information whose disclosure is restricted by statute. Certain other material, such as copyrighted material, will be publicly available only in hard copy. Publicly available docket materials are available either electronically at www.regulations.gov or in hard copy at the U.S. Environmental Protection Agency, Region 1, Superfund Records Center, 1 Congress Street, Suite 1100, Boston, Massachusetts 02114-2023 and at the Watertown Free Public Library, 123 Main Street, Watertown, MA 02472. The EPA Superfund Records Center is open Monday through Friday from 9 a.m. to 5 p.m. and the Watertown Free Library is open Monday through Thursday from 9 a.m. to 9 p.m., Friday and Saturday from 9 a.m. to 5 p.m., and Sunday from 1 p.m. to 5 p.m. The EPA Superfund Records Center's telephone number is (617) 918-1440 and the Watertown Free Library's telephone number is (617) 972-6431.

List of Subjects in 40 CFR Part 300

Environmental protection, Air pollution control, Chemicals, Hazardous waste, Hazardous substances, Intergovernmental relations, Penalties, Reporting and recordkeeping requirements, Superfund, Water pollution control, Water supply.

Authority: 33 U.S.C. 1321(c)(2); 42 U.S.C. 9601-9657; E.O. 12777, 56 FR 54757, 3 CFR 1991; Comp., p. 351; E.O. 12580, 52 FR 2923; 3 CFR 1987 Comp., p. 193.

Dated: September 12, 2006.
Robert W. Varney,
Regional Administrator, U.S. EPA New England.

[FR Doc. 06-7965 Filed 9-21-06; 8:45 am]

BILLING CODE 6560-50-P